DEPARTMENT OF TRANSPORTATION

Federal Transit Administration

[Docket No. FTA-2024-0013]

National Transit Database: Proposed Reporting Changes and Clarifications for Report Years 2025 and 2026

AGENCY: Federal Transit Administration (FTA), Department of Transportation (DOT).

ACTION: Notice, request for comments.

SUMMARY: This notice provides information on proposed changes and clarifications to the National Transit Database (NTD) reporting requirements. Some of the proposed NTD changes would take effect beginning in NTD report year (RY) 2025, while others would take effect in RY 2026.

DATES: Comments should be filed by December 30, 2024. FTA will consider comments received after that date to the extent practicable.

ADDRESSES: You may send comments, identified by docket number FTA-2024-0013, by any of the following methods:

• Federal eRulemaking Portal: Go to https://www.regulations.gov and follow the online instructions for submitting comments.

• Mail: Send comments to Docket Management Facility; U.S. Department of Transportation, 1200 New Jersey Avenue SE, West Building Ground Floor, Room W12-140, Washington, DC 20590-0001.

• Hand Delivery or Courier: West Building Ground Floor, Room W12-140, 1200 New Jersey Ave. SE, between 9 a.m. and 5 p.m. ET, Monday through Friday, except Federal holidays.

• Fax: Fax comments to Docket Management Facility, U.S. Department of Transportation, at (202) 493-2251.

Instructions: You must include the agency name (Federal Transit Administration) and Docket Number (FTA-2024-0013) for this notice, at the beginning of your comments. If sent by mail, submit two copies of your comments.

Electronic Access and Filing: This document and all comments received may be viewed online through the Federal eRulemaking portal at https://www.regulations.gov or at the street address listed above. Electronic submission, retrieval help, and guidelines are available on the Federal eRulemaking portal website. The website is available 24 hours each day, 365 days a year. Please follow the instructions. An electronic copy of this document may also be downloaded from the Office of the Federal Register's home page at https://www.federalregister.gov.

Privacy Act: Except as provided below, all comments received into the docket will be made public in their entirety. The comments will be searchable by the name of the individual submitting the comment (or signing the comment, if submitted on behalf of an association, business, labor union, etc.) You should not include information in your comment that you do not want to be made public. You may review DOT's complete Privacy Act Statement in the Federal Register published on April 11, 2000 (65 FR 19477) or at https://www.transportation.gov/ privacy.

FOR FURTHER INFORMATION CONTACT: Chelsea Champlin, National Transit Database Program Manager, FTA Office of Budget and Policy, 202-366-1651, Chelsea.champlin@dot.gov.

SUPPLEMENTARY INFORMATION:

Table of Contents

A. Background and Overview

B. Additional Data Within Publicly Hosted General Transit Feed Specification (GTFS) Datasets

C. Changes to Passenger Stations and Maintenance Facilities Reporting

D. A-20 NTD/TERM Alignment

E. Safety and Security—Cyber Security Event Reporting

F. Safety and Security—Disabling Damage

G. Reduced Reporter Exemption for Operators Serving Predominantly Rural Areas

H. Voluntary Reporter Tag

A. Background and Overview

The National Transit Database (NTD) was established by Congress to be the Nation's primary source for information and statistics on the transit systems of the United States. Recipients and beneficiaries of Federal Transit Administration (FTA) grants under either the Urbanized Area Formula Program (49 U.S.C. 5307) or Rural Area Formula Program (49 U.S.C. 5311) are required by law to report to the NTD. FTA funding recipients that own, operate, or manage public transportation capital assets are required to provide more limited reports to the NTD regarding Transit Asset Management.

Pursuant to 49 U.S.C. 5334(k), FTA seeks public comment on seven (7) proposed NTD reporting changes and clarifications. These proposals are based on input from the transportation industry and FTA's assessment of geospatial data needs following the NTD's first annual data collection since implementing reporting changes required by the Bipartisan Infrastructure Law, enacted as the Infrastructure Investment and Jobs Act (Pub. L. 117-58). The information below describes anticipated reporting impacts from each proposed change or clarification and the proposed effective date of each change. FTA seeks comments on the proposed changes and clarifications described below. All impacts or changes described below are proposed and subject to finalization in a future notice.

B. Additional Data Within Publicly Hosted General Transit Feed Specification (GTFS) Datasets

The Infrastructure Investment and Jobs Act amended 49 U.S.C. 5335(a) to require FTA to collect “geographic service area coverage” data through the NTD. As of Report Year (RY) 2023, FTA requires that reporters with fixed route modes create and maintain a public domain GTFS dataset that reflects their fixed route service. These changes were finalized through a Federal Register notice published on March 3, 2023 (88 FR 13497). Specifically, FTA requires agencies that operate fixed route service to maintain a GTFS feed and submit to the NTD a corresponding link or file containing their GTFS dataset. FTA requires that the GTFS file contain six underlying text files at a minimum, including trips.txt and stops.txt. A seventh set of files (shapes.txt and feed_info.txt) is optional under current requirements. GTFS ensures data consistency by establishing minimum requirements within each file; some fields are noted as “optional.” FTA recommends reporting some optional fields (as described below) to improve the usefulness of the datasets for data users. However, these fields currently are not required.

In this notice, FTA proposes to further improve the utility of the GTFS data it collects by collecting additional data according to the GTFS specification.

Align agency_id and NTD ID Within GTFS File

The agency_id field in GTFS is a unique, numeric identifier that is used to identify a transit agency or specific service. FTA adopted GTFS standards using the May 9, 2022 version of GTFS, including the current definition of “agency_id”, which is published here: https://gtfs.org/reference/static#field-definitions. This definition does not specify a naming convention for the agency_id field or a requirement to use this field in all GTFS text files.

To improve the usefulness of the datasets, FTA proposes two changes to the agency_id data field. First, FTA proposes to require agencies to align the agency_id field to the agency's National Transit Database Identification Number (NTDID). FTA assigns each reporter a unique five-digit NTDID number, which is used in all NTD reports and correspondence. Please note that rural subrecipient reporters should not include the four-digit ID associated with the State.

Second, FTA proposes to make the agency_id data field a non-conditional requirement—that is, a required field for all GTFS submissions—in agency.txt, routes.txt, fare_attributes.txt (if used), and attributions.txt (if used). Currently, this field is conditionally required in the agency.txt, route.txt, and fare_attributes.txt files when multiple agencies are defined in the agency.txt file. While this change primarily affects agencies with only one reportable service in their GTFS feed, FTA would like to reiterate the existing policy when a GTFS feed contains multiple services. In the case where multiple NTD reporting agencies share a single GTFS feed, the routes.txt file must reflect the respective NTDID associated with each route. For example, if a reporter uses one URL for Agency X and Agency Y, each route that is operated by Agency X must have Agency X's NTDID in the agency_id field, and likewise for Agency Y. In the event that the GTFS feed includes non-reportable service (such as intercity bus service), the agency may leave the agency_id field blank for those routes or may assign whatever agency_id is convenient, provided it is not a five-digit number.

FTA proposes that these new requirements apply to all agencies that must already supply a GTFS feed: Full Reporters, Reduced Reporters, Tribal Reporters, and Rural Reporters. The requirement would apply only to reporters that operate a fixed route mode. The requirement would take effect beginning in NTD Report Year 2025.

Shapes.txt File (Geospatial Drawing of Routes) as Part of GTFS Submission

FTA proposes to collect the shapes.txt file as part of the GTFS submission for each mode. This file is optional in the existing GTFS specification. Under this proposal, NTD reporters operating one or more fixed route modes would be required to include in their static GTFS zip (i.e., the file hosted by the agency) a shapes.txt file for each route. The purpose of this file is to provide shapes, which, according to the GTFS specification, “describe the path that a vehicle travels along a route alignment” which may also be “associated with trips (the data from the presently required trips.txt file).” These shapes “consist of a sequence of points through which the vehicle passes in order.”

FTA proposes that the requirement become effective upon the original submission of the annual report in RY 2025 for Full Reporters and in RY 2026 for Reduced, Rural, and Tribal Reporters. FTA estimates that over one-third of all reporters already maintain the shapes.txt file. Collecting the data included in shapes.txt would benefit transit users by allowing for improved trip planning. In addition, this collection would improve future FTA performance measures and strategic planning.

The National Rural Transit Assistance Program (RTAP) provides resources to help transit agencies generate GTFS data. A resource guide for creating a GTFS dataset is available at https://www.nationalrtap.org/Technology-Tools/GTFS-Builder. This includes Excel templates that will allow users to build GTFS data from existing transit schedules and stop information with little-to-no additional technical expertise. The shapes.txt file can be generated using the GTFS builder approach described in the guide linked above (see the “14. Optional—Complete shapes Tab”).

C. Changes to Passenger Stations and Maintenance Facilities Reporting

Historically, FTA has collected information on passenger stations on two forms in the NTD Asset Module: the A-10 (Stations and Maintenance Facilities) form and the A-15 (Transit Asset Management Facilities Inventory) form. However, due to differences in how the two forms define a “station,” there have been discrepancies between the count of stations as reported in the A-10 and the count of stations in the A-15.

The current A-10 form captures data for both passenger stations and maintenance facilities, regardless of capital responsibility. Agencies currently must report the following information for passenger stations and maintenance facilities, separated by mode and Type of Service (Directly Operated (DO) and Purchased Transportation (PT)):

1. The number of passenger stations, both accessible and inaccessible, in accordance with the Americans with Disabilities Act of 1990 (ADA) and USDOT's implementing regulations at 49 CFR part 37.

2. The number of elevators and escalators within passenger stations.

3. The number of maintenance facilities, tallied by size and ownership categories.

To improve and standardize the reporting of passenger stations and facilities in the NTD asset module, FTA proposes to eliminate the A-10 Stations and Maintenance Facilities form, which currently collects a count of ADA-accessible and non-accessible stations. All station information would be reported through a single, consolidated Transit Asset Management Facilities (A-15) form. This form would contain all data collection related to accessibility that is currently captured on the A-10 form. Agencies must indicate which stations are ADA accessible and inaccessible. For ADA accessibility requirements, please reference 49 CFR part 37.

In addition to passenger stations, FTA proposes that agencies inventory all maintenance facilities on the expanded A-15 form, regardless of capital responsibility. Under current A-15 reporting requirements, agencies only inventory administrative and maintenance facilities if the agency has capital responsibility for the facility and the transit use is greater than incidental. With the new consolidated form, FTA proposes to include facilities without capital responsibility, but maintain the exception for incidental use. Maintenance facilities with less than full capital responsibility, which previously would have been reportable on the A-10 and not the A-15, would be reportable on the new, consolidated A-15 form. Facilities whose transit use is incidental would not be reportable, consistent with existing requirements. Use is considered incidental when 50 percent or less of the facility's physical space is dedicated to the provision of public transportation service.

The intent of this change is both to (a) standardize reporting of transit passenger stations and facilities across forms, and (b) lessen the burden on reporters. By combining these forms into a single form, FTA intends to capture station information through a single source and reduce the effort needed to complete the annual NTD asset module reporting.

All facilities that are currently reportable on the A-15 would continue to be reported on the new consolidated form. In addition to facilities already collected, the expanded A-15 data collection would include the following:

1. Each passenger station's accessibility, expressed as either “ADA accessible” or “ADA inaccessible,” in accordance with 49 CFR part 37. An accessible station complies with part 37 and is fully accessible to individuals with disabilities, including individuals who use wheelchairs. Inaccessible stations do not meet the requirements of part 37.

2. The number of elevators and escalators within passenger stations for each applicable station.

3. The number of passenger facilities (for fixed-route modes) and maintenance facilities (for all modes and types of service other than Taxi (TX) or Transportation Network Company (TN)) by size and ownership categories. Data on maintenance facilities would be collected in a manner similar to the chart below.

Facility type | Owned | Leased from another public agency | Leased from a private entity | Total
General Maintenance Facilities < 200 Vehicles) |  |  |  |
General Maintenance Facilities with 200-300 Vehicles |  |  |  |
General Maintenance Facilities > 300 Vehicles |  |  |  |
Heavy Maintenance Facilities |  |  |  |
Total | (This total will be the count of facilities with > 0 percent capital replacement responsibility) |  |  |

FTA is also seeking feedback on the definition of a “passenger station” for the purpose of uniform inventorying on the expanded A-15 form. On the expanded form, FTA proposes to retain all facilities that are currently reported to the NTD as passenger stations, which means that agencies should continue to inventory all passenger stations as defined in the NTD reporting manual (2024 NTD Reporting Policy Manual, https://www.transit.dot.gov/ntd/2024-ntd-reporting-policy-manual, page 160).

FTA proposes to retain the current guidance that for any station that operates in mixed traffic, a significant structure must be present. This does not include bus shelters. Significant structures are structures that are enclosed or, if partially enclosed, have a minimum roof square footage of 150 feet. Examples may include larger canopies or coverings to serve passengers.

In previous report years, reporters have expressed some confusion as to whether certain facilities, particularly those with multiple platforms, should be reported as a single facility or as two separate facilities. To address this concern and clarify facility reporting, FTA proposes that passenger stations serving rail modes and bus rapid transit modes that span both sides of the right-of-way must be inventoried as a single facility if all of the following criteria are met.

a. Condition assessments are conducted comprehensively, where all subcomponents are assessed in the same procedure/assessment,

b. Passengers can access the facility on both sides of the right-of-way without leaving the facility or designated pedestrian crossing areas, and

c. The ownership, size, and other attributes reported on the expanded A-15 form are the same across the facility.

These changes would take effect for all asset module reporting beginning in NTD Report Year (RY) 2025.

D. A-20 NTD/TERM Alignment

FTA seeks to improve data collection categories on the A-20 Transit Way Mileage Form to align with FTA's Transit Economics Requirement Model (TERM) categories. (For more information on TERM, please see: https://www.transit.dot.gov/regulations-and-programs/asset-management/transit-economic-requirements-models-term-federal-user.) The goal of this proposed change is to create consistency between NTD data collection and the TERM model, both of which are used in the Department of Transportation's Conditions and Performance report to Congress. The proposed changes include three new categories on the A-20 Form: “Track—Turntable,” “Power and Signal—Pump Rooms,” and “Power and Signal—Fan Plants.” For each of these new categories, agencies would report a count of each applicable asset, similar to existing data collection categories on the form.

FTA proposes that under the “Track” section of the A-20 form, agencies would report the count of turntables by mode under the “Special Track” section. A turntable is a track element used to turn train cars in a different direction. This count should include turntables located in rail yards or other locations. To be consistent with other special track categories, agencies would report the Expected Service Years When New, Percent Agency Capital Responsibility, Decade Built, and Agency with Shared Responsibility (when applicable).

FTA proposes that the “Power and Signal” section would include a count of Pump Rooms and Fan Plants by mode. Pump Rooms are assets throughout rail operations that help control water in underground systems. Fan Plants refer to assets that assist with ventilation in underground systems. Similar to existing “Power and Signal” elements on the A-20 form, agencies would provide the Expected Service Years When New, Percent Agency Capital Responsibility, and Agency with Shared Responsibility (when applicable) for these new categories. Agencies also would report the decade of original construction or rebuild (when rebuilt as new). For further detail on these existing fields, please refer to the latest NTD reporting manual.

In addition to these new categories, FTA aims to clarify the data collected for all assets on the “Construction” section on the A-20 form. Currently, the form collects the decade of construction for a specific asset category. While this information is accurate to the original build date, it fails to capture when transit assets are fully rebuilt, which significantly extends the useful life of the asset. Similar to other data collected related to asset age, FTA is proposing that the decade of construction should reflect the original construction date, or the decade rebuilt as new, if applicable. If an element is reconstructed as new or has been renovated to the degree that its expected useful life is equivalent to the condition and useful life of a new element, the agency should report the decade in which this renovation was completed. This information would allow for more accurate modelling of the expected life and condition of the asset, which in turn would generate more accurate estimates of the state of good repair needs of these assets in TERM.

FTA proposes that these changes would take effect beginning in NTD Report Year (RY) 2025.

E. Safety and Security—Cyber Security Event Reporting

FTA seeks to update cyber security NTD reporting requirements. Under current FTA guidance, reportable cyber security events may not capture the prevalence or risks posed by cyber events. For purposes of NTD reporting, a cyber event is “an event that targets transit facilities, personnel, information, or computer or telecommunications systems associated with transit agencies.” (“System Security Event Details Key Descriptions” in the National Transit Database Safety & Security Policy Manual, page 69, https://www.transit.dot.gov/sites/fta.dot.gov/files/2024-02/2024-Safety-and-Security-Policy-Manual_1-0.pdf). Cyber security events are reportable to the NTD if they meet a major event threshold; the most common threshold met is property damage. Between 2014 and June 2024, there have been four cybersecurity events reported to NTD; however, based on an analysis of media coverage, FTA has reason to believe that there have been dozens of breaches, ransomware, and other cyber events on transit agencies during the same period.

To address this issue, FTA proposes clarifications to cyber security event reporting applicable to Full Reporters (reporting via the S&S-40 major event form). Specifically, FTA proposes clarifications in the following areas:

1. Reporting Threshold and IT as Infrastructure

2. Selecting a Mode when Reporting Cyber Security Events

3. Substantial Damage for Rail Modes

The proposed clarifications would give reporters clear guidance on cyber event reporting and would improve data collection, strengthening FTA's policy development, safety oversight, and safety risk mitigation programs, and providing NTD data users (such as transit agencies and other Federal agencies concerned with cyber security) greater insight into cyber security events within public transit.

Reporting Threshold and IT as Infrastructure

A cyber security event is an event that targets transit facilities, personnel, information, or computer or telecommunications systems associated with transit agencies. (National Transit Database Safety and Security Reporting Manual, https://www.transit.dot.gov/sites/fta.dot.gov/files/2024-02/2024-Safety-and-Security-Policy-Manual_1-0.pdf). Cyber security events include:

• Denial or disruption of computer or telecommunications services, especially train control systems,

• Unauthorized monitoring of computer or telecommunications systems,

• Unauthorized disclosure of proprietary or classified information stored within or communicated through computer or telecommunications systems,

• Unauthorized modification or destruction of computer programming codes, computer network databases, stored information, or computer capabilities; or

• Manipulation of computer or telecommunications services resulting from fraud, financial loss, or other criminal violations.

(See National Transit Database Glossary, https://www.transit.dot.gov/ntd/national-transit-database-ntd-glossary).

In many cases, a cyber security event would be reportable as a major event. Under current NTD reporting requirements, an event is reportable as a major event when any major event threshold is met and the event:

• Occurs at a transit revenue facility, maintenance facility, or rail yard;

• Occurs on transit right-of-way or infrastructure (the underlying framework or structures that support a public transportation system);

• Occurs during a transit-related maintenance activity; or

• Involves a transit revenue vehicle.

(See “When to Report a Major Event” in the National Transit Database Safety & Security Policy Manual, page 20. https://www.transit.dot.gov/sites/fta.dot.gov/files/2024-02/2024-Safety-and-Security-Policy-Manual_1-0.pdf).

FTA historically has interpreted “infrastructure” to include only physical assets for both cyber security and other safety and security events. However, FTA believes this interpretation does not adequately encompass impacts to transit IT infrastructure, particularly as it pertains to cyber security events. To address this issue, FTA proposes that “infrastructure” also should include information, computer, and telecommunications systems that exist in any transit facilities (i.e., in the facilities reported on annual form A-15). In addition to providing clarity for cyber security event reporting, FTA's clarification with regards to `infrastructure' would apply to other system security events, such as sabotage or vandalism, provided they meet all other major event thresholds. Similarly, because they involve `disruptions to telecommunications services', major power failures which result in damage to these systems would be reportable if they meet a major event threshold. Thus, cyber security events occurring on this type of infrastructure that meet an NTD major event reporting threshold would be reportable to the NTD on the S&S-40 form.

Selecting a Mode When Reporting Cyber Security Events

Reportable cyber security events are by definition system events that affect “a transit system as a whole.” (“System Security Events” in the National Transit Database Safety & Security Policy Manual, page 68. https://www.transit.dot.gov/sites/fta.dot.gov/files/2024-02/2024-Safety-and-Security-Policy-Manual_1-0.pdf). For this reason, FTA proposes that agencies would consistently select a single designated mode for reporting cyber security events in their system, regardless of the specific infrastructure that is targeted. FTA currently uses the Appian system to collect major events, and a user may select only one mode on the safety and security major event form (S&S-40). Because of this constraint, it is not possible to file an S&S-40 report for multiple modes simultaneously. This results in reporters filing multiple S&S-40 reports for different modes arising from the same cyber event. For this reason, and given the nature of cyber security events as system events, FTA is proposing a hierarchy for S&S-40 cyber security events where reporters would select a single designated mode as detailed below. Among other benefits, this approach would result in reduced reporting burden due to the elimination of multiple (duplicative) reports resulting from a single cyber security event.

FTA proposes that all Rail Transit Agencies (RTAs) (any entity that provides services on a rail fixed guideway public transportation system) would select a rail mode for reporting all cyber security events, regardless of the specific infrastructure that is targeted. If an agency operates more than one rail mode—for example, Heavy Rail (HR) and Light Rail (LR)—they would follow the Predominant Use Rule to determine the appropriate mode to associate with the event.

Agencies that operate fixed route bus modes, but do not operate fixed guideway rail, would select a bus mode for reporting all cyber security events. If an agency operates more than one bus mode—for example, Motorbus (MB) and Bus Rapid Transit (RB)—they would follow the Predominant Use Rule to determine the appropriate mode to associate with the event.

Agencies that operate demand response service and do not operate fixed guideway rail nor fixed route bus would select the demand response mode for reporting all cyber security events.

Agencies that operate only ferryboat service would select the ferryboat mode for reporting all cyber security events.

FTA proposes that this clarification would take effect for Full Reporters in calendar year 2025 as soon as practicable following publication of the Federal Register notice finalizing the NTD reporting changes.

Substantial Damage for Rail Modes

One of the major event thresholds on the S&S-40 form for rail modes is “substantial damage.” While FTA is proposing changes to this reporting threshold for safety and personal security events in this Federal Register notice (see below), the threshold would remain unchanged for system security events, which includes cyber security events. Per the current NTD S&S reporting requirements, the definition of “substantial damage” for rail modes includes damage to any involved vehicles, facilities, equipment, rolling stock, or infrastructure that: (1) disrupts the operations of the rail transit agency and (2) adversely affects the structural strength, performance, or operating characteristics of the asset, such that it requires towing, rescue, on-site maintenance, or immediate removal prior to safe operation. (See “Exhibit 5: Reporting Thresholds” in the National Transit Database Safety & Security Policy Manual, page 22. https://www.transit.dot.gov/sites/fta.dot.gov/files/2024-02/2024-Safety-and-Security-Policy-Manual_1-0.pdf).

FTA proposes to clarify how to apply the substantial damage threshold to cyber security events. Regarding the “disruption of operations” element of the threshold, FTA proposes that for cyber security events, disruption of operations would include the disruptions of the normal operations of transit facilities, personnel, information, or computer or telecommunications systems associated with transit agencies. Examples include (this is not an exhaustive list):

• Ransomware, if it disrupts operations

• Denial of service attack if it disrupts operations

• Communications disruption (e.g., phone lines, website, digital signs, applications)

• Shutting down systems to protect personal data

• Severing connections to other systems

• Inability to collect fares

• Inability to assign routes or make pull-out

The “disruption of operations” element would not be met for events where an actor did not target transit facilities, personnel, information, or computer or telecommunications systems associated with transit agencies, such as (this is not an exhaustive list):

• A user installing an unapproved software utility to perform maintenance activities or updates to fix a bug or deploy enhancements;

• Deployed software or logic changes that are not malicious;

• Accidents that do not involve malicious actors.

Regarding the second element of the “substantial damage” threshold, FTA proposes that a cyber security event automatically would be presumed to adversely affect the operating characteristics of the asset or infrastructure that is targeted such that it would require maintenance to remedy. This is based on FTA's analysis of cyber events and research, which indicates that cyber events disrupting operations adversely affect performance or operations such that they require maintenance to remedy while services are assessed, modified, or halted before being reestablished. (See e.g., National Institute of Standards and Technology (NIST), U.S. Department of Commerce, https://www.nist.gov/cyberframework/recover) In effect, this means that cyber security events only need to meet the first element of the “substantial damage” threshold.

FTA clarifies that events are reportable as cyber security events when they are caused by the actions of a third party. If the actions are caused by a transit employee, the event would be reported as sabotage.

The proposed changes would take effect for safety and security reporting beginning in calendar year 2025 following the publication of the final notice.

F. Safety and Security—Disabling Damage

Section 5329 of Title 49, United States Code, requires FTA to establish a comprehensive public transportation safety program, the elements of which include a National Public Transportation Safety Plan; a safety training and certification program for Federal, State, and local transportation agency employees with safety responsibilities; Public Transportation Agency Safety Plans; and a strengthened State Safety Oversight Program. Pursuant to that authority, in on October 16, 2024, FTA published a final rule (89 FR 83956) updating the State Safety Oversight (SSO) requirements at 49 CFR part 674. This final rule includes a new safety event category titled “disabling damage” for purposes of the SSO notification and investigation thresholds in 49 CFR 674.33 and 674.35. The final rule defines “disabling damage” as “damage to a rail transit vehicle resulting from a collision and preventing the vehicle from operating under its own power.” 49 CFR 674.7.

As discussed in Section E above, at present, one of the major event reporting thresholds for rail modes on the NTD Safety and Security Major Event (S&S-40) form is “substantial damage.” Substantial damage is defined as follows:

“Substantial damage is damage to any involved vehicles, facilities, equipment, rolling stock, or infrastructure that:

• Disrupts the operations of the rail transit agency, and

• Adversely affects the structural strength, performance, or operating characteristics of the asset, such that it requires towing, rescue, on-site maintenance, or immediate removal prior to safe operation.”

(National Transit Database Safety and Security Reporting Manual, https://www.transit.dot.gov/sites/fta.dot.gov/files/2024-02/2024-Safety-and-Security-Policy-Manual_1-0.pdf)

Because the substantial damage and disabling damage thresholds capture different information, FTA is proposing to revise the NTD major event reporting requirements to capture the new “disabling damage” event category defined in the SSO final rule.

FTA is seeking comments on two proposed alternatives to collect this new information. The first option is a wholesale replacement of the substantial damage major event threshold with a disabling damage threshold for safety events. The second option is to maintain the substantial damage threshold and include disabling damage events as a subset of substantial damage events.

Substantial damage is currently a reporting threshold on the S&S-40 form, which is only completed by NTD Full Reporters, and this reporting threshold pertains only to rail modes. As such, either proposed alternative only would affect Full Reporters who operate rail fixed guideway modes. For all other reporters, there would be no impact to safety and security reporting. The changes discussed below would apply only to NTD reporting of major events on the S&S-40 form, and would not alter other program requirements, including the two-hour notification or investigation requirements under 49 CFR part 674.

FTA proposes that under either alternative, FTA would begin collecting disabling damage information in calendar year 2025 as soon as practicable following publication of the Federal Register notice finalizing the NTD reporting changes. Each alternative is described below, including impacts to data collection and data users.

1. Replacing “Substantial Damage” Threshold With “Disabling Damage” for Major Safety Events

The first alternative that FTA is considering is to eliminate the “substantial damage” major event threshold for safety events and personal security events and replace it with a “disabling damage” threshold. Under this alternative, only property damage events which result in disabling damage (i.e., damage to a rail transit vehicle resulting from a collision and preventing the vehicle from operating under its own power) or that meet another major event threshold would be reportable on the S&S-40 for rail modes. This would eliminate major event reporting requirements for events that meet the current substantial damage threshold but do not meet the definition of disabling damage or another major event threshold. All other reporting thresholds, such as injuries, fatalities, and evacuations, would be unchanged. In addition, the substantial damage threshold would be retained for system security events.

Under this proposed revision, for all rail collision safety and security events, the National Transit Database would ask reporters to indicate if the event meets the threshold of “disabling damage” (as defined in part 674). Safety and personal security events that do not meet the disabling damage threshold (or another threshold such as injury, fatality, or evacuation) no longer would be reportable on the S&S-40 form, even if they would have been reportable as substantial damage previously. System security events still would be reportable if they meet the substantial damage threshold, including cyber security events as discussed in this notice. The breakdown by event type is summarized below.

This alternative would reduce burden by reducing the number of reportable major safety and personal security events. For example, electrical malfunctions that disrupt operations but do not involve a collision, injury, fatality, or evacuation no longer would be reportable on the S&S-40. FTA believes that the number of events that result in substantial damage but not disabling damage, and which do not meet another threshold, is minimal compared to the overall number of safety and security events reported to the NTD.

In 2023, the NTD recorded 398 events that were classified as involving “substantial damage” (see NTD Major Safety Events file, at https://data.transportation.gov/Public-Transit/Major-Safety-Events/9ivb-8ae9/explore). Of these, 22 events would not meet the definition of disabling damage and did not meet another major event threshold (injury, fatality, etc.)—such as events where a pantograph was damaged, disrupting service but not damaging the rail transit vehicle. Under this proposal, these events would not be reportable on the S&S-40.

For clarity, the following are all safety and security event types currently in the NTD reporting system, and how they would be affected by this proposed reporting change:

• Collision: substantial damage question removed and replaced with disabling damage.

• Derailment (including yard derailments and non-revenue vehicles): Substantial damage question removed entirely. Because derailment is a separate reporting threshold, the number of reportable events would be unchanged.

• Fire: Substantial damage question removed entirely. If an injury, fatality, or evacuation occurs, the fire would still be reportable. Based on 2023 NTD safety reports, there were no events which met the substantial damage threshold that did not meet another threshold.

• Hazardous material spill: Substantial damage question removed entirely. If an injury, fatality, or evacuation occurs, the hazardous material spill would still be reportable. Based on 2023 NTD safety reports, there were no events which met the substantial damage threshold that did not meet another threshold.

• An earthquake/flood/hurricane/tornado/other high winds/snowstorm/ice storm, etc. (Act of God): Substantial damage question removed entirely. If an injury, fatality, or evacuation occurs, the event would still be reportable. However, damage resulting from Act of God events that do not meet one of these other thresholds would no longer be reportable.

• System Security Event: bomb threat/bombing/chemical/biological/nuclear/radiological/arson/hijacking/sabotage/burglary/vandalism/suspicious package/cyber security event/other system security event: Substantial damage question would be maintained. This includes cyber security events.

• Personal Security Event: assault/robbery/rape/suicide/attempted suicide/larceny or theft (including vehicle theft from a parking lot)/homicide/other personal security event: Substantial damage question removed entirely. If an injury, fatality, or evacuation occurs, the event would still be reportable. However, personal security events where no other thresholds are met would no longer be reportable.

• Other Safety Event (e.g., fall, electric shock, smoke, slip/fall, power failure, runaway train, other): Substantial damage question removed entirely. If an injury, fatality, or evacuation occurs, the safety event would still be reportable. However, other safety events where no other thresholds are met would no longer be reportable.

FTA recognizes that the data on substantial damage may be useful to NTD data users. FTA welcomes public comments on existing and future use cases using substantial damage events that do not involve disabling damage and do not meet another S&S-40 reporting threshold (e.g., no injuries, no fatalities, and where only agency equipment, other than a rail transit vehicle, or other property experience substantial damage).

2. Adding Disabling Damage as a Subset of Substantial Damage Collision Events

The second alternative that FTA is considering is adding a question to the S&S-40 form to allow agencies to report events that cause disabling damage as a distinct subset of events that cause substantial damage. One of the reasons for proposing a new category of disabling damage is to allow FTA to identify collision events involving a rail transit vehicle more easily that prevent the vehicle from operating under its own power. This proposed option would allow FTA's systems to identify such events more accurately (e.g., sub setting substantial damage events to the State Safety Oversight Reporting (SSOR) system if they involve disabling damage). Moreover, it would preserve the broader set of data FTA collects involving substantial damage events that do not involve disabling damage for FTA data analysis and other NTD data users.

This change would apply to the roughly 320 collision events annually that are reported as substantial damage. FTA anticipates that nearly all of the events reported as substantial damage would be marked “Yes” for disabling damage; only a small number would be marked as “No.” Examples of events that are substantial but not disabling include events where rail rolling stock strikes a personal vehicle, with no disabling damage to the rail rolling stock, but the personal vehicle is rendered inoperable. Other examples include events where rail transit property other than a rail transit vehicle experiences substantial damage (e.g., equipment is struck by an object and is substantially damaged), and there is a disruption to service.

Under this proposed option, FTA would retain substantial damage as a reporting threshold. All of the events described above therefore would require major event reports, given that substantial damage occurred. Disabling damage would be recorded as a subset of substantial damage.

FTA would operationalize this requirement by adding a question to the S&S-40 Report. NTD reporters would be first asked to indicate if the collision event caused substantial damage—consistent with current reporting requirements. If the reporter indicates that the event caused substantial damage, the system would prompt the reporter to indicate if the event resulted in disabling damage. If the event did not result in disabling damage, the reporter would simply indicate that no disabling damage occurred.

This option would not expand the set of events that are currently reported. However, it would increase the data collected for each rail collision event involving substantial damage. In calendar year 2023, there were 398 such events—if FTA implements this change, each of these events would require this additional field to establish whether or not the event involved disabling damage.

FTA seeks comment on both proposed alternatives. The proposed changes would take effect in calendar year 2025, approximately three months after the publication of the final notice.

G. Reduced Reporter Exemption for Operators Predominantly Serving Rural Areas

FTA recognizes that there are unique rural operators who provide service over large geographic regions in the United States that partially contain one or more small urbanized areas (UZAs). Although these operators predominantly serve rural areas, they currently report to the NTD as Full Reporters if they operate more than 30 vehicles in maximum service. FTA believes that data reporting requirements should be reduced for these operators to align with the Rural Module reporting requirements of the NTD. This proposal stems from changes to urbanized zone areas from the 2020 Census, which resulted in many agencies that had traditionally been rural reporters suddenly becoming urban reporters, some of whom still predominantly serve rural areas. As a result of this Census change, some transit agencies have requested a waiver from full reporting requirements. In the interest of reducing reporting burden and given that these reporters still predominantly serve rural areas, FTA is proposing to extend waivers to this set of reporters whose service contributes a small proportion towards urban transit service.

Accordingly, FTA proposes a waiver process in which reporters that predominantly serve rural areas may request an exemption from filing as a Full Reporter. Effectively, this would mean that operators receiving the waiver would report as Reduced Reporters instead.

Under this proposal, FTA would grant the waiver if the agency predominantly serves a rural area, as determined by the following criteria:

• Receives funding under 49 U.S.C. 5311,

• Reports one or more primary or secondary UZAs on their Federal Funding Allocation form (FFA-10),

• Operates more than 30 Vehicles Operated in Maximum Service (VOMS),

• Operates fewer total VOMS in urbanized areas (UZAs) than rural (non-UZA) areas, and

• Allocates more total Vehicle Revenue Miles (VRM) to non-UZAs than UZAs.

FTA believes these criteria would positively identify reporters who predominantly serve rural areas without carving out too broad an exemption. Upon publication of the final notice, FTA would review and validate NTD data to assess the above criteria. FTA proposes to use data from the most recent year's validated and accepted data to evaluate eligibility for this waiver, and FTA would grant the waiver if each of the above criteria are met. Based on current available data, FTA estimates that approximately 10-15 agencies would be eligible for this waiver.

FTA would automatically identify agencies that qualify for this waiver based on the prior year's validated and accepted data submitted to the NTD. All eligible reporters then would be presented with the option to request the waiver annually during the Report Year Kick-Off (RYKO) process, which confirms an agency's basic information and operational data listed above that would affect reporter type selection. This process would use the ratio of Section 5307 to total Federal funding expended to estimate VOMS in urbanized areas versus rural areas, because these data are not directly collected on the Federal Funding Allocation form (FFA-10).

If an agency is reporting to the NTD for the first time and wishes to request this waiver, they would be prompted to provide the relevant information for determining eligibility as a part of the “New ID Request” process.

FTA proposes that agencies granted this waiver would certify that they continue to meet the eligibility requirements each year. This certification would be verified through FTA's normal validation of an agency's annual RYKO. However, if an agency's operations change significantly and they no longer meet eligibility requirements, agencies could request a one-year extension of the waiver to allow the agency time to implement data collection changes that would facilitate a Full Reporter submission the following year.

FTA notes that agencies that receive this waiver would report as Reduced Reporters going forward. They therefore would no longer submit Passenger Miles Traveled (PMT) data to the NTD. FTA uses PMT data as part of the calculation of Urbanized Area formula apportionments under 49 U.S.C. 5307 (Section 5307). Agencies considering this waiver would coordinate with the local planning agency in the UZA in which they operate, and the State DOT receiving Section 5311 funding which may impact apportionment to the UZA. These data would otherwise be used in the incentive tier of the Section 5307 formula apportionment.

Under this proposal, FTA would continue to automatically grant a Full Reporting waiver for agencies that report that they operate in a primary or secondary UZA and report 30 or fewer VOMS in the NTD annual report (assuming all figures have been validated). Agencies that neither operate in a UZA nor receive or benefit from Section 5307 funding would not need to apply for this waiver.

FTA proposes that this waiver would be available beginning in NTD Report Year (RY) 2025.

H. Voluntary Reporter Tag

Recipients and beneficiaries of FTA funding under either the Urbanized Area Formula Program (49 U.S.C. 5307) or Rural Area Formula Program (49 U.S.C. 5311) are required by law to report to the NTD. FTA funding recipients that own, operate, or manage public transportation capital assets are required to provide more limited reports to the NTD regarding Transit Asset Management. However, while most transit agencies report to the NTD because they are required to do so by Federal statute, some transit agencies do not receive or benefit from FTA funds but submit NTD reports on a voluntary basis. The service reported by these agencies generate funding for the state or urbanized area(s) where they report their service. The term “transit agency” refers to an entity providing public transportation as defined in 49 U.S.C. 5302.

The term “Voluntary Reporter” refers to public or private transit agencies that are not obligated by Federal statute to report to the NTD, but voluntarily comply with all NTD reporting requirements under the NTD regulation (49 CFR part 630) and the Uniform System of Accounts (USOA). Voluntary Reporters might report data to the NTD with the intention of future inclusion in FTA's Federal funding awards.

Currently, FTA does not collect data that specifically designates an agency's “required” versus “voluntary” reporting status in the NTD reporting system. While an agency's reported financial and revenue vehicle inventory data can indicate their reporting obligations, FTA does not require agencies to directly attest to their reporting status each report year.

To improve data collection from transit agencies, FTA proposes an update to the annual reporting system that would require agencies to identify whether they are Voluntary Reporters. Adding this signifier to the NTD platform would streamline and simplify the process of identifying required versus Voluntary Reporters through a single question, which agencies would answer each report year.

Under this proposal, each unique, active NTD ID would answer a question on the “Identification” (B-10) form in their annual NTD report packages that would ask them to attest to their Voluntary Reporter status. Agencies would respond to the question by selecting “Yes” or “No” in the report form. Agencies that are Section 5307 or 5311 recipients or beneficiaries, or that have continuing grant requirements under either of these programs, would select “No” to indicate they are not Voluntary Reporters and are required to report to the NTD. Agencies who have no Federal requirement to report to the NTD, including not being held to the continuing grant requirements described above, would select “Yes” to indicate that they are Voluntary Reporters.

FTA is proposing that this requirement apply to all reporter types, including Full and Reduced Urban Reporters, Tribes, State DOTs, Rural General Public Transit Reporters, and Capital Asset Reporters. In cases where it is evident and uncontestable that the reporter is a recipient of FTA funding—for instance, a rural subrecipient of a State—this field could be automatically populated for them.

Under this proposal, transit agencies must recertify their voluntary reporting status each report year. This would allow agencies to either verify that their previous reporting status is accurate in the current reporting period or update their reporting status if it has changed. The question would reset at the beginning of each report year so that agencies could select their responses for that particular year. For example, if an agency was a Voluntary Reporter in Report Year (RY) 2024, but received Section 5307 funds in RY 2025, the agency would no longer be considered a Voluntary Reporter, and must answer “No” to the Voluntary Reporter question in the B-10 form in RY 2025.

FTA would verify reporters' responses in the B-10 form through the NTD data validation process. For example, if an agency answers that they are voluntarily reporting in a given report year, FTA would not expect that agency to report Section 5307 or 5311 funds expended on operations or capital in their annual NTD report. FTA also would not expect the agency to report revenue vehicles with the Urbanized Area Formula Program or Rural Area Formula Program funding codes on the Revenue Vehicle Inventory (A-30) forms; if an agency has existing revenue vehicles with either of these funding types already in their report, the agency's validation analyst would ask the agency to confirm whether the vehicle(s) are still within their useful life periods. This verification ensures that the Voluntary Reporter status is consistent with the rest of the report and accurate in the NTD annual data publications.

Please note that this change would not affect existing reporting requirements for mandatory reporters, nor affect the timing of when agencies become subject to mandatory reporting requirements. Agencies are required to report to the National Transit Database if they receive Federal funding, are applying for Federal funding in the coming year, or maintain capital assets purchased with Federal funds. This is unchanged from prior policy. For more information, please consult the NTD Reporting Manuals at https://www.transit.dot.gov/ntd/manuals.

FTA proposes that this change would take effect beginning in NTD Report Year (RY) 2025.

Veronica Vanterpool,
Deputy Administrator.

[FR Doc. 2024-25341 Filed 10-30-24; 8:45 am]

BILLING CODE 4910-57-P